DEPARTMENT OF ENERGY

Federal Energy Regulatory Commission

Combined Notice of Filings #2

Take notice that the Commission received the following exempt wholesale generator filings:

Docket Numbers: EG16-130-000.

Applicants: Cimarron Bend Wind Project I, LLC.

Description: Cimarron Bend Wind Project I, LLC submits Notice of Self-Certification of Exempt Wholesale Generator Status.

Filed Date: 7/26/16.

Accession Number: 20160726-5120.

Comments Due: 5 p.m. ET 8/16/16.

Take notice that the Commission received the following electric rate filings:

Docket Numbers: ER15-1682-004.

Applicants: TransCanyon DCR, LLC.

Description: Compliance filing: Formula Rate Implementation Protocols Compliance Filing to be effective 7/6/2015.

Filed Date: 7/26/16.

Accession Number: 20160726-5079.

Comments Due: 5 p.m. ET 8/16/16.

Docket Numbers: ER16-200-003.

Applicants: Duke Energy Indiana, LLC.

Description: Compliance filing: Compliance Filing Reactive Settlement to be effective 1/1/2016.

Filed Date: 7/26/16.

Accession Number: 20160726-5095.

Comments Due: 5 p.m. ET 8/16/16.

Docket Numbers: ER16-2284-000.

Applicants: DTE Electric Company.

Description: § 205(d) Rate Filing: Revised Croswell Interconnection Agreement to be effective 9/1/2016.

Filed Date: 7/26/16.

Accession Number: 20160726-5075.

Comments Due: 5 p.m. ET 8/16/16.

Docket Numbers: ER16-2285-000.

Applicants: Desert Wind Farm LLC.

Description: Baseline eTariff Filing: Baseline new to be effective 9/24/2016.

Filed Date: 7/26/16.

Accession Number: 20160726-5091.

Comments Due: 5 p.m. ET 8/16/16.

Docket Numbers: ER16-2286-000.

Applicants: Public Service Company of Colorado.

Description: § 205(d) Rate Filing: PSCo-WAPA-TSGT-320-NOC Filing to be effective 9/25/2016.

Filed Date: 7/26/16.

Accession Number: 20160726-5101.

Comments Due: 5 p.m. ET 8/16/16.

Docket Numbers: ER16-2287-000.

Applicants: Niagara Mohawk Power Corporation, New York Independent System Operator, Inc.

Description: § 205(d) Rate Filing: SGIA 2293 between National Grid and Innovative/Colonie to be effective 4/29/2016.

Filed Date: 7/26/16.

Accession Number: 20160726-5131.

Comments Due: 5 p.m. ET 8/16/16.

Docket Numbers: ER16-2288-000.

Applicants: PJM Interconnection, L.L.C.

Description: § 205(d) Rate Filing: Service Agreement No. 4503, Queue Position AB1-166 to be effective 6/27/2016.

Filed Date: 7/26/16

Accession Number: 20160726-5145.

Comments Due: 5 p.m. ET 8/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2016.
Nathaniel J. Davis, Sr.,
Deputy Secretary.

[FR Doc. 2016-18282 Filed 8-1-16; 8:45 am]

BILLING CODE 6717-01-P